DEPARTMENT OF TRANSPORTATION

Federal Aviation Administration

14 CFR Part 39

[Docket No. FAA-2022-0380; Project Identifier MCAI-2021-01178-T; Amendment 39-22076; AD 2022-12-04]

RIN 2120-AA64

Airworthiness Directives; Airbus SAS Airplanes

AGENCY: Federal Aviation Administration (FAA), DOT.

ACTION: Final rule.

SUMMARY: The FAA is adopting a new airworthiness directive (AD) for certain Airbus SAS Model A330-200 series airplanes, Model A330-200 Freighter series airplanes, and Model A330-300 series airplanes. This AD was prompted by a determination that certain service information specified in AD 2018-20-19 contained instructions that could be misleading, resulting in a necessary inspection not being accomplished on certain airplanes. This AD requires a rototest for certain modified airplanes for any crack around the right-side upper and lower bulk door support or door latch fitting holes at certain bulk cargo door frames, or repetitive inspections for any crack at certain fittings, and on-condition actions, as specified in a European Union Aviation Safety Agency (EASA) AD, which is incorporated by reference. The FAA is issuing this AD to address the unsafe condition on these products.

DATES: This AD is effective July 22, 2022.

The Director of the Federal Register approved the incorporation by reference of a certain publication listed in this AD as of July 22, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2022-0380.

Examining the AD Docket

You may examine the AD docket at https://www.regulations.gov by searching for and locating Docket No. FAA-2022-0380; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, FAA, International Validation Branch, 2200 South 216th St., Des Moines, WA 98198; phone 206-231-3229; email vladimir.ulyanov@faa.gov.

SUPPLEMENTARY INFORMATION:

Background

EASA, which is the Technical Agent for the Member States of the European Union, has issued EASA AD 2021-0233, dated October 27, 2021 (EASA AD 2021-0233) (also referred to as the MCAI), to correct an unsafe condition for certain Airbus SAS Model A330-200 series airplanes, Model A330-200 Freighter series airplanes, and Model A330-300 series airplanes.

The FAA issued a notice of proposed rulemaking (NPRM) to amend 14 CFR part 39 by adding an AD that would apply to certain Airbus SAS Model A330-200 series airplanes, Model A330-200 Freighter series airplanes, and Model A330-300 series airplanes. The NPRM published in the Federal Register on March 28, 2022 (87 FR 17198). The NPRM was prompted by a determination that tartaric sulfuric anodizing (TSA)/chromic acid anodizing (CAA) surface treatment in the door fitting attachment holes leads to a detrimental effect on fatigue behavior; and that certain service information specified in AD 2018-20-19, Amendment 39-19453 (83 FR 52126, October 16, 2018) (AD 2018-20-19) contains instructions that could be misleading, resulting in a necessary inspection not being accomplished on certain airplanes. The potentially misleading instructions are for an optional action, and apply only to model A330-200, A330-200 Freighter, and A330-300 airplanes. The NPRM proposed to require a rototest for certain modified airplanes for any crack around the right-side upper and lower bulk door support or door latch fitting holes at certain bulk cargo door frames, or repetitive inspections for any crack at certain fittings, and on-condition actions, as specified in EASA AD 2021-0233.

The FAA is issuing this AD to address possible fatigue cracks in the bulk cargo door frames, caused by TSA/CAA surface treatment in frame (FR) 67 and FR69 cargo door frame attachment holes. See the MCAI for additional background information.

Discussion of Final Airworthiness Directive

Comments

The FAA received comments from the Air Line Pilots Association, International (ALPA) who supported the NPRM without change.

Conclusion

The FAA reviewed the relevant data, considered the comment received, and determined that air safety requires adopting this AD as proposed. Except for minor editorial changes, this AD is adopted as proposed in the NPRM. None of the changes will increase the economic burden on any operator. Accordingly, the FAA is issuing this AD to address the unsafe condition on these products.

Related Service Information Under 1 CFR Part 51

EASA AD 2021-0233 specifies procedures for a rototest for any crack around the holes at the upper and lower door support fittings of frame FR67 and FR69 right hand side and the holes at door latch fitting of FR69 right hand side; or repetitive detailed inspections of the frame around the fittings, or high frequency eddy current (HFEC) and ultrasonic inspections of the upper door supper fitting holes and rototests of the lower door fitting holes of the door latch fittings at FR69 for any crack; and on-condition actions. On-condition actions include installing new (never installed on an airplane) bushes to the latch fittings of FR69 and repair, and a rototest of the support fittings and the frame holes at FR67.

This material is reasonably available because the interested parties have access to it through their normal course of business or by the means identified in the ADDRESSES section.

Costs of Compliance

The FAA estimates that this AD affects 109 airplanes of U.S. registry. The FAA estimates the following costs to comply with this AD:

Estimated Costs for Required Actions
Labor cost | Parts cost | Cost per product | Cost on U.S. operators
Up to 15 work-hours × $85 per hour = $1,275 | $0 | Up to $1,275 | Up to $138,975.

The FAA estimates the following costs to do any necessary on-condition action that would be required based on the results of any required or optional actions. The FAA has no way of determining the number of aircraft that might need this on-condition action:

Estimated Costs of On-Condition Actions
Labor cost | Parts cost | Cost per product
3 work-hours × $85 per hour = $255 | $1,915 | $2,170

The FAA has received no definitive data on which to base the cost estimates for the repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-12-04 Airbus SAS: Amendment 39-22076; Docket No. FAA-2022-0380; Project Identifier MCAI-2021-01178-T.

(a) Effective Date

This airworthiness directive (AD) is effective July 22, 2022.

(b) Affected ADs

None.

(c) Applicability

This AD applies to the Airbus SAS airplanes identified in paragraphs (c)(1) through (3) of this AD, certificated in any category, as identified in European Union Aviation Safety Agency (EASA) AD 2021-0233, dated October 27, 2021 (EASA AD 2021-0233).

(1) Model A330-201, -202, -203, -223, and -243 airplanes.

(2) Model A330-223F and -243F airplanes.

(3) Model A330-301, -302, -303, -321, -322, -323, -341, -342, and -343 airplanes.

(d) Subject

Air Transport Association (ATA) of America Code 53, Fuselage.

(e) Unsafe Condition

This AD was prompted by a determination that tartaric sulfuric anodizing (TSA)/chromic acid anodizing (CAA) surface treatment in the door fitting attachment holes leads to a detrimental effect on fatigue behavior; and that certain service information specified in AD 2018-20-19 contains instructions that could be misleading, resulting in a necessary inspection not being accomplished on certain airplanes. The FAA is issuing this AD to address possible fatigue cracks in the bulk cargo door frames, caused by TSA/CAA surface treatment in frame (FR) 67 and FR69 cargo door frame attachment holes. Cracks in the bulk cargo door frames can cause the in-flight loss of a bulk cargo door, damage to the airplane, and subsequent reduced control of the airplane.

(f) Compliance

Comply with this AD within the compliance times specified, unless already done.

(g) Requirements

Except as specified in paragraph (h) of this AD: Comply with all required actions and compliance times specified in, and in accordance with, EASA AD 2021-0233.

(h) Exceptions to EASA AD 2021-0233

(1) Where EASA AD 2021-0233 refers to its effective date, this AD requires using the effective date of this AD.

(2) The “Remarks” section of EASA AD 2021-0233 does not apply to this AD.

(3) Where paragraph (4) of EASA AD 2021-0233 specifies to “accomplish those instructions accordingly” if discrepancies are detected, for this AD a discrepancy is any cracking, and if any cracking is detected, the cracking must be repaired before further flight using a method approved by the Manager, Large Aircraft Section, International Validation Branch, FAA; or EASA; or Airbus SAS's EASA Design Organization Approval (DOA). If approved by the DOA, the approval must include the DOA-authorized signature.

(4) Where paragraph (4) of EASA AD 2021-0233 specifies to “contact Airbus for approved repair instructions,” for this AD use “accomplish corrective actions in accordance with the instructions of the SB and contact the Manager, Large Aircraft Section, International Validation Branch, FAA; or EASA; or Airbus SAS's EASA DOA for approved repair instructions. If approved by the DOA, the approval must include the DOA-authorized signature”

(5) Although the service information referenced in EASA AD 2021-0233 specifies to do a check of the aircraft records for accomplishment of certain service information, and specifies that action as “RC,” (required for compliance), this AD does not include that requirement.

(6) Where the Applicability section of EASA AD 2021-0233 refers to “defects,” for this AD “defects” are cracks.

(i) No Reporting Requirement

Although the service information referenced in EASA AD 2021-0233 specifies to submit certain information to the manufacturer, this AD does not include that requirement.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph(s) (h)(3) and (4), (i), and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Vladimir Ulyanov, Aerospace Engineer, Large Aircraft Section, FAA, International Validation Branch, 2200 South 216th St., Des Moines, WA 98198; phone 206-231-3229; email vladimir.ulyanov@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0233, dated October 27, 2021.

(ii) [Reserved]

(3) For EASA AD 2021-0233, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on June 3, 2022.
Gaetano A. Sciortino,
Deputy Director for Strategic Initiatives, Compliance & Airworthiness Division, Aircraft Certification Service.

[FR Doc. 2022-13016 Filed 6-16-22; 8:45 am]

BILLING CODE 4910-13-P